DEPARTMENT OF HOMELAND SECURITY

Federal Emergency Management Agency

[Docket ID FEMA-2015-0001]

Final Flood Hazard Determinations

AGENCY: Federal Emergency Management Agency, DHS.

ACTION: Final Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of September 2, 2015 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Mitigation has resolved any appeals resulting from this notification.

This final notice is issued in accordance with section 110 of the Flood Disaster Protection Act of 1973, 42 U.S.C. 4104, and 44 CFR part 67. FEMA has developed criteria for floodplain management in floodprone areas in accordance with 44 CFR part 60. Interested lessees and owners of real property are encouraged to review the new or revised FIRM and FIS report available at the address cited below for each community or online through the FEMA Map Service Center at www.msc.fema.gov. The flood hazard determinations are made final in the watersheds and/or communities listed in the table below.

(Catalog of Federal Domestic Assistance No. 97.022, “Flood Insurance.”)

Dated: July 23, 2015.
Roy E. Wright,
Deputy Associate Administrator for Insurance and Mitigation, Department of Homeland Security, Federal Emergency Management Agency.

I. Watershed-based Studies:

Lower Kansas Watershed
Community | Community map repository address
Douglas County, Kansas, and Incorporated Areas
Docket No.: FEMA-B-1426
City of Lawrence | City Hall, 6 East 6th Street, Lawrence, KS 66044.
Unincorporated Areas of Douglas County | Zoning and Codes Department, 2108 West 27th Street, Suite I, Lawrence, KS 66047.
Wyandotte County, Kansas, and Incorporated Areas
Docket No.: FEMA-B-1426
City of Bonner Springs | City Hall, 205 East 2nd Street, Bonner Springs, KS 66012.
City of Edwardsville | City Hall, 690 South 4th Street, Edwardsville, KS 66111.
City of Kansas City | City Hall, 701 North 7th Street, Kansas City, KS 66101.
Unincorporated Areas of Wyandotte County | City Hall, 701 North 7th Street, Kansas City, KS 66101.

II. Non-Watershed Based Studies:

Community | Community map repository address
Mecklenburg County, North Carolina, and Incorporated Areas
Docket No.: FEMA-B-1418
City of Charlotte | Mecklenburg County Storm Water Services Office, 700 North Tryon Street, Charlotte, NC 28202.
Town of Cornelius | Town Hall, 21445 Catawba Avenue, Cornelius, NC 28031.
Town of Huntersville | Planning Department, 105 Gilead Road, 3rd Floor, Huntersville, NC 28078.
Town of Pineville | Town Hall, 200 Dover Street, Pineville, NC 28134.
Unincorporated Areas of Mecklenburg County | Mecklenburg County Storm Water Services Office, 700 North Tryon Street, Charlotte, NC 28202.
McKenzie County, North Dakota, and Incorporated Areas
Docket No.: FEMA-B-1353
City of Alexander | 112 Manning Avenue West, Alexander, ND 58831.
City of Watford | 213 2nd Street NE, Watford City, ND 58854.
McKenzie County | 201 NW 5th Street, Watford City, ND 58854.
Delaware County, Pennsylvania (All Jurisdictions)
Docket No.: FEMA-B-1419
Borough of Eddystone | Eddystone Borough Engineering Office, 520 West MacDade Boulevard, Milmont Park, PA 19033.
Borough of Folcroft | Borough Hall, 1555 Elmwood Avenue, Folcroft, PA 19032.
Borough of Marcus Hook | Municipal Building, 1015 Green Street, Marcus Hook, PA 19061.
Borough of Norwood | Borough Hall, 10 West Cleveland Avenue, Norwood, PA 19074.
Borough of Prospect Park | Borough Building, 720 Maryland Avenue, Prospect Park, PA 19076.
Borough of Trainer | Borough Hall, 824 Main Street, Trainer, PA 19061.
City of Chester | Planning Department, 1 Fourth Street, Chester, PA 19013.
Township of Ridley | Ridley Township Office, 100 East MacDade Boulevard, Folsom, PA 19033.
Township of Tinicum | Tinicum Township Hall, 629 North Governor Printz Boulevard, Essington, PA 19029.
King William County, Virginia, and Incorporated Areas
Docket No.: FEMA-B-1401
Town of West Point | Town Hall, 329 Sixth Street, West Point, VA 23181.
Unincorporated Areas of King William County | King William County Administrator's Office, 180 Horse Landing Road, King William, VA 23086.

[FR Doc. 2015-20163 Filed 8-13-15; 8:45 am]

BILLING CODE 9110-12-P